NUCLEAR REGULATORY COMMISSION

Office of New Reactors; Notice of Availability of the Final Interim Staff Guidance DC/COL-ISG-03 on Probabilistic Risk Assessment Information To Support Design Certification and Combined License Applications

AGENCY: Nuclear Regulatory Commission (NRC).

ACTION: Notice of availability.

SUMMARY: The NRC is issuing its Final Interim Staff Guidance (ISG) DC/COL-ISG-03 (ADAMS Accession No. ML081430087). This ISG supplements the guidance provided to the staff in section 19.0, “Probabilistic Risk Assessment and Severe Accident Evaluation for New Reactors,” of NUREG-0800, “Standard Review Plan for the Review of Safety Analysis Reports for Nuclear Power Plants,” concerning the review of probabilistic risk assessment (PRA) information and severe accident assessment submitted to support design certification (DC) and combined license (COL) applications.

The NRC staff issues DC/COL-ISGs to facilitate timely implementation of the current staff guidance and to facilitate activities associated with review of applications for DC and COLs by the Office of New Reactors. The NRC staff will also incorporate the approved DC/COL-ISGs into the next revision to the review guidance documents for new reactor applications.

Disposition: On February 12, 2008, the staff issued the proposed ISG “Probabilistic Risk Assessment Information to Support Design Certification and Combined License Applications,” (COL/DC-ISG-003) (ADAMS Accession No. ML080370218) to solicit public and industry comment. The staff received comments (ADAMS Accession Nos. ML080810201, ML080810204 and ML080840432) on the proposed guidance on March 21, 2008. These comments were further discussed in a public meeting held at the NRC on May 8, 2008. This final issuance incorporates changes from the majority of the comments. To the extent that comments are not incorporated in this final issuance, the comments are rejected by the staff or are outside the scope of this guidance.

ADDRESSES: The NRC maintains an Agencywide Documents Access and Management System (ADAMS), which provides text and image files of NRC's public documents. These documents may be accessed through the NRC's Public Electronic Reading Room on the Internet at http://www.nrc.gov/reading-rm/adams.html. Persons who do not have access to ADAMS or who encounter problems in accessing the documents located in ADAMS should contact the NRC Public Document Room reference staff at 1-800-397-4209, 301-415-4737, or by e-mail at pdr@nrc.gov.

FOR FURTHER INFORMATION CONTACT: Ms. Lynn A. Mrowca, Chief, PRA Licensing, Operations Support Maintenance Branch 1, Division of Safety Systems and Risk Assessment, Office of the New Reactors, U.S. Nuclear Regulatory Commission, Washington, DC 20555-0001; telephone 301-415-0525 or e-mail at lynn.mrowca@nrc.gov.

SUPPLEMENTARY INFORMATION: The agency posts its issued staff guidance in the agency external Web page http://www.nrc.gov/reading-rm/doc-collections/isg/.

Dated at Rockville, Maryland, this 11th day of June 2008.
For the Nuclear Regulatory Commission,
George M. Tartal,
Acting Chief, Rulemaking, Guidance and Advanced Reactor Branch, Division of New Reactor Licensing, Office of New Reactors.

[FR Doc. E8-13572 Filed 6-16-08; 8:45 am]

BILLING CODE 7590-01-P